LEGAL SERVICES CORPORATION

Request for Comments—LSC Budget Request for FY 2012

AGENCY: Legal Services Corporation.

ACTION: Request for Comments—LSC Budget Request for FY 2012.

SUMMARY: The Legal Services Corporation is beginning the process of developing its FY 2012 budget request to Congress and is soliciting suggestions as to what the request should be.

DATES: Written comments must be received on or before September 10, 2010.

ADDRESSES: Written comments may be submitted by mail, fax or e-mail to David L. Richardson, Treasurer, Legal Services Corporation, 3333 K St., NW., Washington, DC 20007; 202-295-1630 phone); 202-337-6834 (fax); david.richardson@lsc.gov.

FOR FURTHER INFORMATION CONTACT: David L. Richardson, Treasurer, Legal Services Corporation, 3333 K St., NW., Washington, DC 20007; 202-295-1510 (phone); 202-337-6834 (fax); david.richardson@lsc.gov.

SUPPLEMENTARY INFORMATION: The Legal Services Corporation's (LSC) mission is to promote equal access to justice in our Nation and to provide for high-quality civil legal assistance to low income persons. LSC submits an annual budget request directly to Congress and receives an annual direct appropriation to carry out its mission. For the current fiscal year (FY 2011), LSC received an appropriation of $420,000,000 of which $394,400,000 was for basic field programs and required independent audits; $4,200,000 was for the Office of Inspector General; $17,000,000 was for management and grants oversight; $3,400,000 was for technology initiative grants; and $1,000,000 was for loan repayment assistance; Consolidated Appropriations Act, 2010, Public Law 111-117 123 Stat. 3034 (December 16, 2009).

As part of its annual budget and appropriation process, LSC notifies the Office of Management and Budget (OMB) in September as to what the LSC budget request to Congress will be for the next fiscal year. Accordingly, LSC is currently in the process of formulating its FY 2012 budget request. The Finance Committee of the LSC Board of Directors will meet on September 21, 2010 to develop a recommendation to make to the full Board.

LSC invites public comment on what its FY 2012 budget request should be. Interested parties may submit comments to LSC by September 13, 2010. More information about LSC can be found at LSC's Web site: http://www.lsc.gov.

Dated: August 30, 2010.
Patricia D. Batie,
Corporate Secretary.

[FR Doc. 2010-22114 Filed 9-3-10; 8:45 am]

BILLING CODE 7050-01-P